DEPARTMENT OF COMMERCE

National Oceanic and Atmospheric Administration

50 CFR Part 660

[Docket No. 101206604-1620-01]

RIN 0648-BA55

Fisheries Off West Coast States; West Coast Salmon Fisheries; Amendment 16 to the Salmon Fishery Management Plan

AGENCY: National Marine Fisheries Service (NMFS), National Oceanic and Atmospheric Administration (NOAA), Commerce.

ACTION: Proposed rule; request for comments; notice of availability of a draft environmental assessment.

SUMMARY: NMFS proposes regulations to implement Amendment 16 to the Pacific Coast Salmon Fishery Management Plan for Commercial and Recreational Salmon Fisheries off the Coasts of Washington, Oregon, and California (Salmon FMP). Amendment 16, which was transmitted by the Pacific Fishery Management Council (Council) on September 12, 2011, to the Secretary of Commerce (Secretary) for review and approval, brings the Salmon FMP into compliance with the Magnuson-Stevens Fishery Conservation and Management Act (MSA) as reauthorized in 2006, and the corresponding revised National Standard 1 Guidelines (NS1Gs) to end and prevent overfishing. This document also announces the availability for public review and comment of a draft environmental assessment (EA) analyzing the environmental impacts of implementing Amendment 16.

DATES: Written comments on this proposed rule must be received on or before November 18, 2011.

ADDRESSES: You may submit comments, identified by NOAA-NMFS-2011-0227, by any one of the following methods:

• Electronic Submissions: Submit all electronic public comments via the Federal e-Rulemaking Portal http://www.regulations.gov. To submit comments via the e-Rulemaking Portal, first click the “submit a comment” icon, then enter NOAA-NMFS-2011-0227 in the keyword search. Locate the document you wish to comment on from the resulting list and click on the “Submit a Comment” icon on the right of that line.

• Mail: William W. Stelle, Jr., Regional Administrator, Northwest Region, NMFS, 7600 Sand Point Way NE., Seattle, WA 98115-0070 or to Rod McInnis, Regional Administrator, Southwest Region, NMFS, 501 West Ocean Boulevard, Suite 4200, Long Beach, CA 90802-4213.

• Fax: 206-526-6736 Attn: Peggy Mundy, or 562-980-4047 Attn: Jennifer Isé.

Instructions: Comments must be submitted by one of the above methods to ensure that they are received, documented, and considered by NMFS. Comments sent by any other method, to any other address or individual, or received after the end of the comment period, may not be considered. All comments received are a part of the public record and will generally be posted for public viewing on http://www.regulations.gov without change. All personal identifying information (e.g., name, address, etc.) submitted voluntarily by the sender will be publicly accessible. Do not submit confidential business information or otherwise sensitive or protected information. NMFS will accept anonymous comments (enter N/A in the required fields if you wish to remain anonymous). Attachments to electronic comments will be accepted in Microsoft Word, Excel, WordPerfect, or Adobe PDF file formats only.

Information relevant to this proposed rule, which includes a draft environmental assessment (Draft EA), a regulatory impact review (RIR), and an initial regulatory flexibility analysis (IRFA) are available for public review during business hours at the office of the Pacific Fishery Management Council (Council), at 7700 NE Ambassador Place, Portland, OR 97220, phone: 503-820-2280, and are posted on its Web site (http://www.pcouncil.org). These documents are also linked on the NMFS Northwest Region Web site (http://www.nwr.noaa.gov). Copies of additional reports referred to in this document may also be obtained from the Council.

FOR FURTHER INFORMATION CONTACT: Peggy Mundy at 206-526-4323, or Jennifer Isé at 562-980-4046.

SUPPLEMENTARY INFORMATION:

Background

The Magnuson-Stevens Fishery Conservation and Management Reauthorization Act of 2006 (MSRA) amended the Magnuson-Stevens Fishery Conservation and Management Act (MSA) to include new requirements for annual catch limits (ACLs), accountability measures (AMs), and other provisions regarding preventing and ending overfishing and rebuilding fisheries. On January 16, 2009, NMFS published a final rule (74 FR 3178) amending the National Standard 1 Guidelines (NS1Gs) to implement these new requirements. In response, the Pacific Fishery Management Council (Council) convened an ad hoc Salmon Amendment Committee to develop alternatives for Amendment 16 to the FMP to address these new requirements. In June 2011, the Council adopted Amendment 16. The Council transmitted the amendment to NMFS on September 12, 2011. NMFS published a Notice of Availability in the Federal Register (76 FR 57945, September 19, 2011) to notify the public of the availability of the amendment and invite comments. Concurrently with developing Amendment 16, alternatives were analyzed in a Draft EA.

This proposed rule identifies changes to the regulations under 50 CFR 660 subpart H to implement Amendment 16. The Council has deemed the proposed regulations to be necessary and appropriate as required by section 303(c) of the MSA. This document also announces the availability of the Draft EA for public review and comment. Key Components of Amendment 16.

Stock Classification

Stocks “in the fishery.” Stocks in need of conservation and management measures in Council-area fisheries would be classified as “in the fishery” under Amendment 16. Target stocks in Council-area fisheries are hatchery stocks and productive natural stocks with ocean distributions primarily within the Council area. Non-target salmon stocks include stocks listed under the Endangered Species Act (ESA) or depressed natural stocks. Under Amendment 16, all salmon stocks currently included in the FMP would be considered to be in the fishery except for Canadian Chinook, coho and pink stocks, and mid-Columbia River spring Chinook salmon. The Canadian stocks would be removed because they are managed under the Pacific Salmon Treaty, and their status is assessed by the Canadian government. The mid-Columbia River spring Chinook salmon would be removed because Council area fisheries have negligible impacts on the stock, and therefore they are not in need of conservation and management measures in fisheries under Council authority. Two stocks would be added to the FMP: Oregon coastal hatchery coho and Willapa Bay natural coho. Smith River Chinook salmon would also be identified as a separate stock from other ESA listed California Coastal Chinook stocks.

Stock Complexes. Stock complexes are groups of stocks that are sufficiently similar in geographic distribution, life history, and vulnerabilities to the fishery such that the impacts of management actions on the stocks are similar. Stock complexes may be formed to facilitate management requirements such as setting ACLs, or determining stock status. Three Chinook stock complexes would be specified in Amendment 16 for the purposes of specifying ACLs and AMs: Central Valley Fall (CVF), Southern Oregon Northern California (SONC), and far-north migrating coastal (FNMC). The status of stocks in these complexes would be assessed individually.

Internationally managed stocks. Amendment 16 identifies the FNMC Chinook complex; Washington coastal and Puget Sound coho; and Puget Sound pink salmon as exempt from the ACL and AM requirements in the MSA because these stocks are subject to management under an international agreement (Pub. L. 109-479, sec. 104(b), MSA § 303 note). These stocks are managed in accordance with terms of the Pacific Salmon Treaty between the U.S. and Canada. While stocks managed under an international agreement can be exempted from the specification of ACLs, all other MSA 303(a) requirements apply, such as specification of maximum sustainable yield (MSY) and status determination criteria (SDC).

Status Determination Criteria

Under Amendment 16, SDC would be determined for natural stocks ¹ for which specification of these reference points is appropriate and possible, based on the best available science. SDC would be specified only for individual stocks, including indicator stocks within stock complexes, not for stock complexes as a whole. The proposed SDC incorporate the reference points identified in the MSA and NS1Gs; however, the proposed definitions of some of these reference points differ slightly from those in the NS1Gs to accommodate the life history of Pacific salmon, whose reproduction is semelparous ² and for which a stock's full reproductive potential can be spread out over a multi-year period. These modified approaches are proposed in accordance with the provision allowing for flexibility in the application of NS1Gs (50 CFR 600.310(h)(3)).

¹ “Natural stocks” have at least some component of the stock that relies on natural production, although hatchery production and naturally spawning hatchery fish may contribute to abundance and spawning escapement estimates.

² Semelparous: reproducing once. All Pacific salmon species managed under the Salmon FMP are semelparous, spawning once before dying, as compared to iteroparous species, such as steelhead (Oncorhynchus mykiss), which can, potentially, spawn multiple times.

Under Amendment 16, a stock would be considered subject to overfishing when the postseason estimate of the fishing mortality rate (F) exceeds the maximum fishery mortality threshold (MFMT), where the MFMT is generally defined as FMSY. The definitions of overfished, approaching overfished, and rebuilt rely on multi-year postseason estimates of spawning escapement ³ to be assessed using a 3-year geometric mean to determine status. Minimum stock size threshold (MSST) would be variable among stocks, with MSST defined for most stocks as 0.5*SMSY, but MSST for Sacramento River fall Chinook (SRFC), Klamath River fall Chinook (KRFC), Grays Harbor, Queets, Hoh, and Quillayute coho defined as 0.75*SMSY, and MSST for Puget Sound coho defined as the stock specific low/critical abundance breakpoint multiplied by one minus the low exploitation rate limit. The Puget Sound coho provisions are designed to be consistent with the conservation and management provisions developed through the Pacific Salmon Treaty. An approaching overfished determination would be made if the geometric mean of the two most recent postseason estimates of spawning escapement and the current preseason forecast of spawning escapement are below the MSST.

³ Escapement, or spawning escapement, refers to anadromous fish that survive the ocean and return to fresh water where they are available for in-river fisheries or spawning.

Annual Catch Limits and Acceptable Biological Catch

Under Amendment 16, specification of overfishing limit (OFL), ABC, and ACL reference points would be made on an individual stock basis as required based on the best available science. These reference points would not be specified for internationally managed stocks identified in the FMP (Pub. L. 109-479, sec. 104(b), MSA section 303 note). Hatchery stocks and ESA-listed stocks identified in the FMP would be managed to meet hatchery goals and ESA consultation standards, consistent with the NS1Gs, which provide the flexibility to consider alternative approaches for specifying ACLs and AMs for these types of stocks. Under Amendment 16, the relevant stocks for specifying OFL/ABC/ACL reference points would be Sacramento River fall Chinook (SRFC) and Klamath River fall Chinook (KRFC) as indicator stocks for the CVF and SONC Chinook complexes respectively.

Under Amendment 16, OFL, ABC and ACL would be specified as escapement levels for each stock. These OFL, ABC, and ACL escapement levels would be determined annually using exploitation rates (i.e., FMSY, FABC, and FACL) and abundance estimates for each stock. FABC incorporates a reduction from FMSY to account for scientific uncertainty in FMSY. FMSY and FABC are defined in terms of the total exploitation rate across all salmon fisheries (Federal and nonfederal jurisdiction). Impacts in non-salmon fisheries are included in the natural mortality assumptions used to estimate population parameters for salmon stocks; therefore, all fishing mortality sources are accounted for when reference points are specified. Amendment 16 would generally leave in place existing conservation objectives for stocks in the FMP; the notable exception would be Klamath River fall Chinook salmon, for which the spawning escapement component of the conservation objective would change from 35,000 to 40,700 naturally spawning adults. Under the amendment, the fishery would be managed to meet the greater of either the ACL or the conservation objective in a given year.

De minimis Fishing Provisions

The de minimis fishing provisions that exist in the current FMP would be revised by Amendment 16 to allow for more flexibility in setting annual regulations when the conservation objectives for limiting stocks are projected not to be met, and provide opportunity to access more abundant salmon stocks that are typically available in the Council management area when the status of one stock may otherwise preclude all ocean salmon fishing in a large region, as is the case under the conservation alert in the current FMP. De minimis fishing provisions vary by stock and depend on the form and structure of the conservation objective. Amendment 16 describes de minimis fishing provisions that would be applied to SRFC and KRFC specifically. Under Amendment 16, de minimis fishing provisions would use a multi-step F-based control rule that would allow some harvest at all abundance levels. As stock size declines, the allowable exploitation rate declines from FABC in order to achieve SMSY until F = 0.25. A constant maximum exploitation rate of 0.25 would be allowed until the potential spawner abundance reaches the midpoint between SMSY and MSST where F would be reduced in proportion to abundance to no more than 10 percent at MSST. At potential spawner abundance levels less than or equal to half of MSST the allowable exploitation rate would be further reduced to levels approaching zero as abundance approaches zero.

Changes to Regulations

This proposed rule includes changes to the existing regulations at 50 CFR 660.401 et seq. to implement Amendment 16 and additional updates. These are described below.

• § 660.402—Definitions

The definition of the Pacific Coast Salmon Plan is updated to address recent amendments.

• § 660.403—Relation to Other Laws

References to the regulations governing the Pacific groundfish fishery are updated consistent with recent changes to 50 CFR part 660 (75 FR 60868, October 1, 2010).

• § 660.405—Prohibitions

Language is added to allow flexibility in implementing fishery closures by inseason action to meet fishery management objectives. Specifically, under the proposed language fishery closures could be implemented at times other than at 2400 hours (midnight) in order to allow for more precise management of the fishery.

Information on the Salmon Troll Yelloweye Rockfish Conservation area is updated consistent with recent changes to 50 CFR part 660 (75 FR 60868, October 1, 2010).

• § 660.408—Annual Actions

Language regarding annual specifications is modified to include ACLs and to state that they and other specifications and management measures are determined consistent with the FMP. The definition of “allowable ocean harvest levels” is revised to specify that such levels must ensure that ACLs and conservation objectives are not exceeded. This section is also modified to allow for mark-selective fisheries and to define the term “mark-selective.”

• § 660.410—Conservation Objectives and ACLs

Language relative to conservation objectives is updated, including treatment of ESA-listed stocks within annual specifications and management measures. Language is added stating that annual management measures will be designed to ensure that escapement levels reach or exceed ACLs.

Classification

Pursuant to section 304(b)(1)(A) of the Magnuson-Stevens Act, the NMFS Assistant Administrator has determined that this proposed rule is consistent with Amendment 16, other provisions of the Magnuson- Stevens Act, and other applicable law, subject to further consideration after public comment.

This proposed rule has been determined to be not significant for purposes of Executive Order 12866.

A Draft EA has been prepared for Amendment 16; a copy of the Draft EA is available online at http://www.pcouncil.org/. The Draft EA includes a regulatory impact review (RIR) and preliminary regulatory flexibility analysis, NMFS has revised the RIR and drafted an initial regulatory flexibility analysis (IRFA) and is making available its revised RIR and IRFA for public review and comment.

An initial regulatory flexibility analysis (IRFA) was prepared, as required by section 603 of the Regulatory Flexibility Act (RFA). The IRFA describes the economic impact this proposed rule, if adopted, would have on small entities. A description of the action, why it is being considered, and the legal basis for this action are contained at the beginning of this section in the preamble and in the SUMMARY section of the preamble, and are not repeated here. The RIR and IRFA are available for public review and comment (see ADDRESSES). A summary of the analysis follows: The Salmon FMP (PFMC 2007) establishes conservation and allocation guidelines for annual management of salmon off the coasts of Washington, Oregon, and California. This framework allows the Council to develop measures responsive to stock status in a given year. Section 3 of the current Salmon FMP describes the conservation objectives for Salmon FMP stocks necessary to meet the dual MSA objectives of obtaining optimum yield (OY) from a fishery while preventing overfishing. Each stock has a specific objective, generally designed to achieve MSY, maximum sustained production (MSP), or in some cases, an exploitation rate to serve as an MSY proxy.

The Salmon FMP also specifies criteria to determine when overfishing may be occurring and when a stock may have become overfished. These conditions are referred to as a Conservation Alert and an Overfishing Concern, respectively. In addition, the Salmon FMP also specifies required actions when these conditions are triggered. The alternatives described in Section 2 are structured around the actions required when a Conservation Alert is triggered. This proposed action will bring the Salmon FMP into compliance with the MSA, as amended in 2007, and the revised NS1Gs, by developing and implementing ACLs and AMs to prevent overfishing on stocks in the fishery to which MSA section 303(a)(15) applies, ensure “measurable and objective” SDC for stocks in the fishery, and define the control rules under which de minimis fishing opportunity would take place consistent with NS1.

The Pacific Fishery Management Council's “Review 2010 Ocean Salmon Fisheries” provides the following economic snapshot of the 2010 fishery. Total 2010 ex-vessel value of the Council-managed non-Indian commercial salmon fishery was $7.15 million, which is the fifth lowest on record, but more than four times above its 2009 level of $1.5 million. California had its first commercial salmon fishery since 2007. The 2010 ex-vessel value of the commercial fishery was 28 percent below the 2005-2009 inflation-adjusted average of $10 million and 88 percent below the 1979 through 1990 inflation-adjusted average of $59.3 million. Based on Pacific Coast Fisheries Information Network (PacFIN) data, a total of 641 vessels participated in the non-tribal West Coast commercial salmon fishery in 2010. This is more than double the number that participated in 2009 (313), and nearly triple the number in 2008. However the 2010 total was down 36 percent from 2007's total of 1,007 vessels.

The preliminary number of vessel-based ocean salmon recreational angler trips taken on the West Coast in 2010 was 182,900, a decrease of three percent from 2009, and 70 percent below the 1979 through 1990 average. Compared with 2009, preliminary estimates of the number of trips taken in 2010 decreased by 37 percent in Oregon and 18 percent in Washington. California effort was up substantially since the sport fishery was not restricted to a 10-day fishery in the Klamath Management Zone as it was in 2009; however it was still severely depressed compared to historic levels. Recreational salmon fishing takes place primarily in two modes, (1) Anglers fishing from privately owned pleasure crafts, and (2) anglers employing the services of the charter boat fleet. In general, success rates on charter vessels tend to be higher than success rates on private vessels. Small amounts of shore-based effort directed toward ocean area salmon occur, primarily from jetties and piers. Coastwide, the proportion of angler trips taken on charter vessels in 2010 was relatively stable at 24 percent compared with 23 percent in 2009; however, underlying this trend was a decline in the proportion of charter trips in Oregon and increases in California and Washington. During 2010, the Review indicates that there were 465 charterboats that participated in the 2010 fishery.

While some of the treaty Indian harvest was for ceremonial and subsistence purposes, the vast majority of the catch was commercial harvest. For all of 2010 the preliminary ex-vessel value of Chinook and coho landed in the treaty Indian ocean troll fishery was $1.8 million, compared with the ex-vessel value in 2009 of $1.0 million. According to a Northwest Indian Fisheries Commission representative, the tribal fleet consists of 40 to 50 trollers. The commercial entities directly regulated by the Pacific Council's Fishery Management Plan are non-tribal commercial trollers, tribal commercial trollers, and charterboats. During 2010, these fleets consisted of 641 non-tribal trollers, 40 to 50 tribal trollers, and 465 charterboats.

Total West Coast income impact associated with recreational and commercial ocean salmon fisheries for all three states combined was estimated at $25.5 million in 2010. This was 46 percent above the estimated 2009 level of $17.4 million. 2010 had the third lowest income impacts on record, with 2008 having the lowest on record at $7.5 million and 2009 the second lowest (adjusted for inflation).

The key components of Amendment 16 are administrative, as they are revisions to the key components of the process by which the Council and NMFS make decisions on how best to manage various stocks in the fishery. These key components include defining what stocks are in the fishery; how these stocks may be organized into stock complexes, the treatment of international stocks, revising the stock status determination criteria including definitions of overfishing, ABC, and ACL reference points; and revising de minimis fishing provisions to allow for more flexibility in setting annual regulations when the conservation objectives for limiting stocks are projected not to be met, and provide opportunity to access more abundant salmon stocks that are typically available in the Council management area when the status of one stock may otherwise preclude all ocean salmon fishing in a large region. This action revises the process of how conservation and management decisions will be made; it contains no actual application of the methods to set ABC, ACL, or OFL or the management measures (e.g. closed seasons, area closures, bag limits, etc.) to keep the fishery within the ACL and other conservation objectives to assure that overfishing does not occur. As a result there are no immediate economic impacts to evaluate. These will occur when the new process is actually applied in future actions and the economic impacts will be evaluated then.

However, the EA did undertake an economic analysis of the expected effects of the preferred action and options relative to “No Action” alternative and presented the following conclusions. The proposed alternatives for classifying the stocks in the FMP will have no economic impacts, as there are no biological implications to designating stocks “in the fishery” and “ecosystem components,” as compared with the no action Alternative. Proposed alternatives for SDC have no significant biological or economic impacts. The stocks have had low frequency of experiencing overfishing in the past and many of the current control rules clearly prevent fishing at or above FMSY. It has been rare that stock abundance or other constraints on the fishery have created opportunity for fishing above FMSY in other cases. Identifying clearer criteria with which to determine stock status will more clearly align with the MSA and NS1Gs, and can help managers implement timelier management responses and contribute to ensuring sustainable salmon stock levels to support the fishery, resulting in positive economic effects. The proposed alternatives for implementing ACLs, ABCs, and associated reference points (i.e., the ACL framework) are similar in nature to the effects of the proposed SDC, thus, have no significant biological or economic impacts. In the short term, fisheries may be constrained in a given year to prevent overfishing, but such actions will provide long-term benefits from more sustainable salmon populations to support harvest and recreational opportunities.

Proposed alternatives to identify AMs have no significant biological or economic impacts, compared to the no action alternative. Many of the proposed AMs identified are actions that exist in the FMP currently and are administrative in nature (e.g., notification). Proposed alternatives for de minimis fishing are not expected to result in significant biological or economic effects. However, providing for de minimis fishing will afford more opportunities for harvest, consistent with National Standard 8, and achieve optimum yield for the fishery consistent with NS1. Therefore, there are projected positive economic benefits of the proposed action by allowing some minimal harvest of weaker stocks in an effort to harvest healthier, abundant stocks in the mixed stock fishery.

The commercial entities directly regulated by the Pacific Council's Fishery Salmon Management Plan are non-tribal commercial trollers, tribal commercial trollers, and charterboats. During 2010, these fleets consisted of 641 non-tribal trollers, 40 to 50 tribal trollers, and 465 charterboats. A fish-harvesting business is considered a “small” business by the Small Business Administration (SBA) if it has annual receipts not in excess of $4.0 million. For marinas and charter/party boats, a small business is one with annual receipts not in excess of $6.5 million. All of the businesses that would be affected by this action are considered small businesses under SBA guidance. Tribal and non-tribal commercial salmon vessel revenues averaged approximately $13,000 in 2010 (Review of 2010 Ocean Salmon Fisheries). Charterboats participating in the recreational salmon fishery in 2000 had average revenues ranging from $7,000 to $131,000, depending on vessel size class (Pacific States Marine Fisheries Commission study). These figures remain low, and NMFS has no information suggesting that these vessels have received annual revenues since 2000 such that they should be considered “large” entities under the RFA. As these average revenues are far below SBA's thresholds for small entities, NMFS has determined that all of these entities are small entities under SBA's definitions.

The economic analysis does not highlight any significant impact upon small businesses. The key components of Amendment 16 are administrative, as they are revisions to the key components of the process by which the Council and NMFS make decisions on how best to manage various stocks in the fishery. As a result there are no immediate economic impacts to evaluate. These will occur when the new process is actually applied in future actions and the economic impacts will be evaluated then. Consequently, the regulations being proposed are not expected to meet any of the tests of having a “significant” economic impact on a “substantial number” of small entities. Nonetheless, NMFS has prepared an IRFA. Through the rulemaking process associated with this action, we are requesting comments on this conclusion.

This proposed rule would not establish any new reporting, record-keeping, requirements.

No Federal rules have been identified that duplicate, overlap, or conflict with this action.

NMFS has issued ESA biological opinions that address the impacts of the Council managed salmon fisheries on listed salmonids as follows: March 8, 1996 (Snake River spring/summer and fall Chinook and sockeye), April 28, 1999 (Oregon Coast natural coho, Southern Oregon/Northern California coastal coho, Central California coastal coho), April 28, 2000 (Central Valley spring Chinook), April 27, 2001 (Hood Canal summer chum 4(d) limit), April 30, 2004 (Puget Sound Chinook), June 13, 2005 (California coastal Chinook), April 28, 2008 (Lower Columbia River natural coho), and April 30, 2010 (Sacramento River winter Chinook, Lower Columbia River Chinook; and listed Puget Sound yelloweye rockfish, canary rockfish, and bocaccio). NMFS reiterates its consultation standards for all ESA listed salmon and steelhead species in their annual Guidance letter to the Council. In 2009, NMFS consulted on the effects of fishing under the Salmon FMP on the endangered Southern Resident Killer Whale Distinct Population Segment (SRKW) and concluded the salmon fisheries were not likely to jeopardize SRKW (biological opinion dated May 5, 2009).

Pursuant to Executive Order 13175, this proposed rule was developed after meaningful consultation and collaboration with Tribal officials from the area covered by the FMP. Under the Magnuson-Stevens Act at 16 U.S.C. 1852(b)(5), one of the voting members of the Pacific Council must be a representative of an Indian Tribe with Federally recognized fishing rights from the area of the Council's jurisdiction. In addition, a Tribal representative served on the committee appointed by the Pacific Council to develop Amendment 16.

List of Subjects in 50 CFR Part 660

Fisheries, Fishing, Recordkeeping and reporting requirements.

Dated: October 18, 2011.
Samuel D. Rauch III,
Deputy Assistant Administrator for Regulatory Programs, National Marine Fisheries Service.

For the reasons set out in the preamble, 50 CFR part 660 is proposed to be amended as follows:

PART 660—FISHERIES OFF WEST COAST STATES

1. The authority citation for part 660 continues to read as follows:

Authority: 16 U.S.C. 1801 et seq. and 16 U.S.C. 773 et seq.

2. In § 660.402, revise the definition for “Pacific Coast Salmon Plan” to read as follows:

§ 660.402 Definitions.

* * * * *

Pacific Coast Salmon Plan (PCSP or Salmon FMP) means the Fishery Management Plan, as amended, for commercial and recreational ocean salmon fisheries in the Exclusive Economic Zone (EEZ) (3 to 200 nautical miles offshore) off Washington, Oregon, and California. The Salmon FMP was first developed by the Council and approved by the Secretary in 1978. The Salmon FMP was amended on October 31, 1984, to establish a framework process to develop and implement fishery management actions; the Salmon FMP has been subsequently amended at irregular intervals. Other names commonly used include: Pacific Coast Salmon Fishery Management Plan, West Coast Salmon Plan, West Coast Salmon Fishery Management Plan.

* * * * *

3. In § 660.403, revise paragraph (b) to read as follows:

§ 660.403 Relation to other laws.

* * * * *

(b) Any person fishing subject to this subpart who also engages in fishing for groundfish should consult Federal regulations in subpart C through G for applicable requirements of that subpart, including the requirement that vessels engaged in commercial fishing for groundfish (except commercial passenger vessels) have vessel identification in accordance with § 660.20.

* * * * *

4. In § 660.405, revise paragraph (b) and the introductory text of paragraph (c) to read as follows:

§ 660.405 Prohibitions.

* * * * *

(b) The fishery management area is closed to salmon fishing except as opened by this subpart or superseding regulations or notices. All open fishing periods begin at 0001 hours and end at 2400 hours local time on the dates specified, except that a fishing period may be ended prior to 2400 hours local time through an inseason action taken under § 660.409 in order to meet fishery management objectives.

(c) Under the Pacific Coast groundfish regulations at § 660.330, fishing with salmon troll gear is prohibited within the Salmon Troll Yelloweye Rockfish Conservation Area (YRCA). It is unlawful for commercial salmon troll vessels to take and retain, possess, or land fish taken with salmon troll gear within the Salmon Troll YRCA. Vessels may transit through the Salmon Troll YRCA with or without fish on board. The Salmon Troll YRCA is an area off the northern Washington coast. The Salmon Troll YRCA is intended to protect yelloweye rockfish. The Salmon Troll YRCA is defined by straight lines connecting specific latitude and longitude coordinates under the Pacific Coast Groundfish regulations at § 660.70.

* * * * *

5. In § 660.408,

a. Revise paragraph (a);

b. Redesignate paragraphs (b), (c), (d), (e), (f), (g), (h), (i), (j), (k), (l), (m), and (n) as paragraphs (c), (d), (e), (f), (g), (h), (i), (j), (k), (l), (m), (n), and (o), respectively;

c. Add a new paragraph (b);

d. Revise newly redesignated paragraphs (c), (d)(1)(ii), (d)(1)(v)(B), (d)(1)(vi), (d)(2)(iv), (e), (g), (i)(2), (k), (l)(2), (l)(4), and (o) to read as follows:

§ 660.408 Annual actions.

(a) General. NMFS will annually establish specifications and management measures or, as necessary, adjust specifications and management measures for the commercial, recreational, and treaty Indian fisheries by publishing the action in the Federal Register under § 660.411. Management of the Pacific Coast salmon fishery will be conducted consistent with the standards and procedures in the Salmon FMP. The Salmon FMP is available from the Regional Administrator or the Council. Specifications and management measures are described in paragraphs (b) through (o) of this section.

(b) Annual catch limits. Annual Specifications will include annual catch limits (ACLs) determined consistent with the standards and procedures in the Salmon FMP.

(c) Allowable ocean harvest levels. Allowable ocean harvest levels must ensure that conservation objectives and ACLs are not exceeded, as described in § 660.410. The allowable ocean harvest for commercial, recreational, and treaty Indian fishing may be expressed in terms of season regulations expected to achieve a certain optimum harvest level or in terms of a particular number of fish. Procedures for determining allowable ocean harvest vary by species and fishery complexity, and are documented in the fishery management plan and Council documents.

* * * * *

(d) * * *

(1) * * *

(ii) Deviations from allocation schedule. The initial allocation may be modified annually in accordance with paragraphs (d)(1)(iii) through (viii) of this section. These deviations from the allocation schedule provide flexibility to account for the dynamic nature of the fisheries and better achieve the allocation objectives and fishery allocation priorities in paragraphs (d)(1)(ix) and (x) of this section. Total allowable ocean harvest will be maximized to the extent possible consistent with treaty obligations, state fishery needs, conservation objectives, and ACLs. Every effort will be made to establish seasons and gear requirements that provide troll and recreational fleets a reasonable opportunity to catch the available harvest. These may include single-species directed fisheries with landing restrictions for other species.

* * * * *

(v) * * *

(B) Chinook distribution. Subarea distributions of Chinook will be managed as guidelines based on calculations of the Salmon Technical Team with the primary objective of achieving all-species fisheries without imposing Chinook restrictions (i.e., area closures or bag limit reductions). Chinook in excess of all-species fisheries needs may be utilized by directed Chinook fisheries north of Cape Falcon or by negotiating a preseason species trade of Chinook and coho between commercial and recreational allocations in accordance with paragraph (d)(1)(iii) of this section.

* * * * *

(vi) Inseason trades and transfers. Inseason transfers, including species trades of Chinook and coho, may be permitted in either direction between commercial and recreational fishery quotas to allow for uncatchable fish in one fishery to be reallocated to the other. Fish will be deemed uncatchable by a respective commercial or recreational fishery only after considering all possible annual management actions to allow for their harvest that are consistent with the harvest management objectives specific in the fishery management plan including consideration of single species fisheries. Implementation of inseason transfers will require consultation with the pertinent commercial and recreational Salmon Advisory Subpanel representatives from the area involved and the Salmon Technical Team, and a clear establishment of available fish and impacts from the transfer. Inseason trades or transfers may vary from the guideline ratio of four coho to one Chinook to meet the allocation objectives in paragraph (d)(1)(ix) of this section.

* * * * *

(2) * * *

(iv) Oregon coastal natural coho. The allocation provisions in paragraph (d)(2) of this section provide guidance only when coho abundance permits a directed coho harvest, not when the allowable harvest impacts are insufficient to allow coho retention south of Cape Falcon. At such low levels, allowable harvest impacts will be allocated during the Council's preseason process.

* * * * *

(e) Management boundaries and zones. Management boundaries and zones will be established or adjusted to achieve a conservation purpose or management objective. A conservation purpose or management objective protects a fish stock, simplifies management of a fishery, or promotes wise use of fishery resources by, for example, separating fish stocks, facilitating enforcement, separating conflicting fishing activities, or facilitating harvest opportunities. Management boundaries and zones will be described by geographical references, coordinates (latitude and longitude), depth contours, distance from shore, or similar criteria.

* * * * *

(g) Recreational daily bag limits. Recreational daily bag limits for each fishing area will specify number and species of salmon that may be retained. The recreational daily bag limits for each fishing area will be set to maximize the length of the fishing season consistent with the allowable level of harvest in the area.

* * * * *

(i) * * *

(2) Commercial seasons. Commercial seasons will be established or modified taking into account wastage of fish that cannot legally be retained, size and poundage of fish caught, effort shifts between fishing areas, and protection of depressed stocks present in the fishing areas. All-species seasons will be established to allow the maximum allowable harvest of pink salmon, when and where available, without exceeding allowable Chinook or coho harvest levels and within conservation and allocation constraints of the pink stocks.

* * * * *

(k) Selective fisheries—(1) In general. In addition to the all-species seasons and the all-species-except-coho seasons established for the commercial and recreational fisheries, species selective fisheries and mark selective fisheries may be established.

(2) Species selective fisheries. Selective coho-only, Chinook-only, pink-only, all salmon except Chinook, and all salmon except coho fisheries may be established if harvestable fish of the target species are available; harvest of incidental species will not exceed allowable levels; proven, documented selective gear exists; significant wastage of incidental species will not occur; and the selective fishery will occur in an acceptable time and area where wastage can be minimized and target stocks are primarily available.

(3) Mark selective fisheries. Fisheries that select for salmon marked with a healed adipose fin clip may be established in the annual management measures as long as they are consistent with guidelines in section 6.5.3.1 of the Pacific Coast Salmon Plan.

* * * * *

(1) * * *

(2) The combined treaty Indian fishing seasons will not be longer than necessary to harvest the allowable treaty Indian catch, which is the total treaty harvest that would occur if the tribes chose to take their total entitlement of the weakest stock in the fishery management area, assuming this level of harvest did not create conservation or allocation problems for other stocks.

* * * * *

(4) If adjustable quotas are established for treaty Indian fishing, they may be subject to inseason adjustment because of unanticipated Chinook or coho hooking mortality occurring during the season, catches in treaty Indian fisheries inconsistent with those unanticipated under Federal regulations, or a need to redistribute quotas to ensure attainment of an overall quota.

* * * * *

(o) Reporting requirements. Reporting requirements for commercial fishing may be imposed to ensure timely and accurate assessment of catches in regulatory areas subject to quota management. Such reports are subject to the limitations described herein. Persons engaged in commercial fishing in a regulatory area subject to quota management and landing their catch in another regulatory area open to fishing may be required to transmit a brief report prior to leaving the first regulatory area. The regulatory areas subject to these reporting requirements, the contents of the reports, and the entities receiving the reports will be specified annually.

6. In § 660.409, revise paragraph (b)(2) introductory text to read as follows:

§ 660.409 Inseason actions.

* * * * *

(b) * * *

(2) Fishery managers must determine that any inseason adjustment in management measures is consistent with fishery regimes established by the U.S.-Canada Pacific Salmon Commission, conservation objectives and ACLs, conservation of the salmon resource, any adjudicated Indian fishing rights, and the ocean allocation scheme in the fishery management plan. All inseason adjustments will be based on consideration of the following factors:

* * * * *

7. Revise § 660.410 to read as follows:

§ 660.410 Conservation objectives and ACLs.

(a) Conservation objectives. Annual management measures will be consistent with conservation objectives described in Table 3-1 of the Salmon FMP or as modified through the processes described below, except where the ACL escapement level for a stock is higher than the conservation objective, in which case annual management measures will be designed to ensure that the ACL for that stock is met.

(1) Modification of conservation objectives. NMFS is authorized, through an action issued under § 660.411, to modify a conservation objective if—

(i) A comprehensive technical review of the best scientific information available provides conclusive evidence that, in the view of the Council, the Scientific and Statistical Committee, and the Salmon Technical Team, justifies modification of a conservation objective or

(ii) Action by a Federal court indicates that modification of a conservation objective is appropriate.

(2) ESA listed species. The annual specifications and management measures will be consistent with NMFS consultation standards or NMFS recovery plans for species listed under the Endangered Species Act (ESA). Where these standards differ from those described in FMP Table 3-1, NMFS will describe the ESA-related standards for the upcoming annual specifications and management measures in a letter to the Council prior to the first Council meeting at which the development of those annual management measures occurs.

(b) Annual catch limits. Annual management measures will be designed to ensure escapement levels at or higher than ACLs determined through the procedures set forth in the FMP.

[FR Doc. 2011-27346 Filed 10-21-11; 8:45 am]

BILLING CODE 3510-22-P